DEPARTMENT OF AGRICULTURE

Federal Crop Insurance Corporation

7 CFR Part 457

RIN 0563-AC61

[Docket ID FCIC-2019-0002]

Common Crop Insurance Policy Basic Provisions

AGENCY: Federal Crop Insurance Corporation, USDA.

ACTION: Final rule; correcting amendment.

SUMMARY: The Federal Crop Insurance Corporation is correcting a final rule that was published in the Federal Register on June 28, 2019, which revised the Catastrophic Risk Protection Endorsement, the Area Risk Protection Insurance Basic Provisions, and the Common Crop Insurance Policy (CCIP) Basic Provisions. This correction is being published to correct an incorrect reference in section 3(g)(3) of the Common Crop Insurance Policy Basic Provisions.

DATES: Effective: November 22, 2019.

FOR FURTHER INFORMATION CONTACT: Francie Tolle; telephone (816) 926-7730; email francie.tolle@usda.gov. Persons with disabilities who require alternative means of communication should contact the USDA Target Center at (202) 720-2600 (voice).

SUPPLEMENTARY INFORMATION:

Background

This correction is being published to correct section 3(g)(3) of the Common Crop Insurance Policy Basic Provisions, published June 28, 2019 (84 FR 30857-30862). Section 3(g)(3) incorrectly references “section 34(c)(3).” The correct reference should be “section 34(b)(3)” and is being revised in this correction.

List of Subjects in 7 CFR Part 457

Acreage allotments, Crop insurance, Reporting and recordkeeping requirements.

Need for Correction

Accordingly, 7 CFR part 457 is corrected by making the following amendments:

PART 457—COMMON CROP INSURANCE REGULATIONS

1. The authority citation for part 457 continues to read as follows:

Authority: 7 U.S.C. 1506(l) and 1506(o).

§ 457.8 [Amended]

2. Amend § 457.8, in the Common Crop Insurance Policy, in section 3(g)(3), remove the words “section 34(c)(3)” and add “section 34(b)(3)” in its place.

Robin Anderson,
Executive Secretary, Federal Crop Insurance Corporation.

[FR Doc. 2019-25387 Filed 11-21-19; 8:45 am]

BILLING CODE 3410-08-P